DEPARTMENT OF ENERGY

Federal Energy Regulatory Commission

[Project No. P-2713-082]

Erie Boulevard Hydropower, L.P.; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2713-082.

c. Date filed: December 30, 2010.

d. Applicant: Erie Boulevard Hydropower, L.P.

e. Name of Project: Oswegatchie River Hydroelectric Project.

f. Location: The existing multi-development project is located on the Oswegatchie River in St. Lawrence County, New York. The project does not affect Federal lands.

g. Filed Pursuant to: Federal Power Act 16 U.S.C. 791 (a)—825(r).

h. Applicant Contact: Daniel Daoust, Compliance Specialist, Brookfield Renewable Power, 33 West 1st Street South, Fulton, NY 13069; Telephone (315) 598-6131.

i. FERC Contact: John Baummer, Telephone (202) 502-6837, and e-mail john.baummer@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Oswegatchie River Hydroelectric Project consists of six developments with an installed capacity of 28.56 megawatts (MW) and an average annual generation of 123,769 megawatt-hours. The six developments, listed from upstream to downstream, include:

Browns Falls

The existing Browns Falls Development is located at river mile 96.9 of the Oswegatchie River and consists of: (1) A 941-foot-long dam with a 192-foot-long, 69-foot-high concrete gravity spillway with a crest elevation of 1,347.0 feet above mean sea level (msl) and equipped with 2-foot-high seasonal flash boards; (2) a 168-acre reservoir with a gross storage capacity of 3,234 acre-feet and a normal maximum pool elevation of 1349.0 feet msl; (3) a 62-foot-long gated intake structure equipped with a trashrack with 2.5-inch clear bar spacing; (4) a 12-foot-diameter, 6,000-foot-long steel pipeline; (5) a 70-foot-high surge tank; (6) two 8-foot-diameter, 142-foot-long steel penstocks; (7) a powerhouse containing two turbines directly connected to two generating units for a total installed capacity of 15.0 MW; (8) a 123-foot-long, 6.6-kilovolt (kV) transmission line; and (9) appurtenant facilities.

The steel pipeline, penstocks, and powerhouse bypass about 7,500 feet of the Oswegatchie River.

Flat Rock

The existing Flat Rock Development is located at river mile 95.5 of the Oswegatchie River and consists of: (1) A 568-foot-long dam and a 120-foot-long earthen embankment with a concrete core wall, and a 229-foot-long, 70-foot-high concrete gravity spillway with a crest elevation of 1,080.0 feet msl; (2) a 159-acre reservoir with a gross storage capacity of 2,646 acre-feet and a normal maximum pool elevation of 1,080.0 feet msl; (3) a 66-foot-long gated intake structure equipped with a trashrack with 2.5-inch clear bar spacing; (4) a powerhouse containing two turbines directly connected to two generating units for a total installed capacity of 5.07 MW; (5) a 30-foot-long, 2.4-kV transmission line; and (6) appurtenant facilities.

South Edwards

The existing South Edwards Development is located at river mile 87.1 of the Oswegatchie River and consists of: (1) A 200-foot-long dam with a 88-foot-long, 48-foot-high concrete gravity spillway with a crest elevation of 843.2 feet msl and equipped with 2-foot-high seasonal flash boards; (2) 510-foot-long and 240-foot-long earthen dikes located along the south bank of the reservoir, with concrete core walls and partially equipped with 10-inch-high flashboards; (3) a 79.2-acre reservoir with a gross storage capacity of 1,003 acre-feet and a normal maximum pool elevation of 845.2 feet msl; (4) a 46-foot-long gated intake structure equipped with a trashrack with 2.5-inch clear bar spacing; (5) a 10-foot-diameter, 1,106-foot-long fiberglass pipeline; (6) a 51-foot-high surge tank; (7) a submersible minimum-flow turbine-generator unit connected to the fiberglass pipeline, and a powerhouse containing three turbines directly connected to three generating units for a total installed capacity of 2.92 MW; (8) 75-foot-long, 480-volt and 3,917-foot-long, 2.4-kV transmission lines; and (9) appurtenant facilities.

The pipeline and powerhouse bypass about 1,500 feet of the Oswegatchie River.

Oswegatchie

The existing Oswegatchie Development is located at river mile 86.6 of the Oswegatchie River and consists of: (1) A 160-foot-long dam with an 80-foot-long, 12-foot-high concrete gravity spillway with a crest elevation of 758.6 feet msl and equipped with a 10-foot-wide notch; (2) a 6-acre reservoir with a gross storage capacity of 23 acre-feet and a normal maximum pool elevation of 758.6 feet msl; (3) a 50-foot-long gated intake structure equipped with a trashrack with 1-inch clear bar spacing; (4) two 6.5-foot-diameter, 90-foot-long steel penstocks; (5) a powerhouse containing two turbines directly connected to two generating units for a total installed capacity of 2.07 MW; (6) a 2,227-foot-long, 2.4-kV transmission line; and (7) appurtenant facilities.

The penstocks and powerhouse bypass about 350 feet of the Oswegatchie River.

Heuvelton

The existing Heuvelton Development is located at river mile 12 of the Oswegatchie River and consists of: (1) A 285-foot-long, 19-foot-high concrete gravity dam with a crest elevation of 276.5 feet msl and equipped with two 10.9-foot-high inflatable rubber bladder gates and four 10.5-foot-high tainter gates; (2) a 239-acre reservoir with a gross storage capacity of 405 acre-feet and a normal maximum pool elevation of 286.2 feet msl; (3) a 70-foot-long gated intake structure equipped with a trashracks with 3.5-inch clear bar spacing; (4) a powerhouse containing two turbines directly connected to two generating units for a total installed capacity of 1.04 MW; (5) a 62-foot-long, 2.4-kV transmission line; and (6) appurtenant facilities.

Eel Weir

The existing Eel Weir Development is located at river mile 5.1 of the Oswegatchie River and consists of: (1) A 1,012-foot-long dam with a short earthen embankment and a 744-foot-long, 26-foot-high Ambursen spillway with a crest elevation of 272.0 feet msl; (2) a 96-acre reservoir with a gross storage capacity of 136.0 acre-feet and a normal maximum pool elevation of 272.0 feet msl; (3) a 117-foot-long gated intake structure equipped with a trashrack with 3.5-inch clear bar spacing; (4) a powerhouse containing three turbines directly connected to three generating units for a total installed capacity of 2.46 MW; (5) a 127-foot-long, 2.4-kV transmission line; and (6) appurtenant facilities.

m. Erie Boulevard Hydropower, L.P. (Erie) filed a Settlement Agreement (Settlement) February 18, 2011 signed by the Adirondack Mountain Club, Adirondack Park Agency, Clifton-Fine Economic Development Group, 5 Ponds Subcommittee, St. Lawrence County, New York State Department of Environmental Conservation, New York State Council of Trout Unlimited, U.S. Fish and Wildlife Service, the National Park Service and Erie (collectively, the Parties). The purpose of the Settlement is to provide for the continued operation of the project with appropriate protection, mitigation and enhancement measures that balance the power and non-power values of the Oswegatchie River. The agreement resolves among the Parties issues related to project operations, fisheries, wildlife, water quality, recreation, and cultural resources. The Parties request that the Commission accept and incorporate, without material modification, Sections 3.1 through 3.9 of the Settlement as numbered license articles.

n. A copy of the application and Settlement is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

o. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Procedural Schedule:

The application will be processed according to the following revised Hydro Licensing Schedule. Revisions to the schedule may be made as appropriate.

Milestone | Target Date
Filing of recommendations, preliminary terms and conditions, and preliminary fishway prescriptions | June 2011.
Commission issues EA | October 2011.
Comments on EA | November 2011.
Modified terms and conditions | January 2012.

q. Final amendments to the application must be filed with the Commission no later than 30 days from the issuance date of this notice.

r. A license applicant must file no later than 60 days following the date of issuance of the notice of acceptance and ready for environmental analysis provided for in 5.22: (1) A copy of the water quality certification; (2) a copy of the request for certification, including proof of the date on which the certifying agency received the request; or (3) evidence of waiver of water quality certification.

Dated: April 21, 2011.
Kimberly D. Bose,
Secretary.

.

[FR Doc. 2011-10260 Filed 4-27-11; 8:45 am]

BILLING CODE 6717-01-P